DEPARTMENT OF COMMERCE

Foreign-Trade Zones Board

[B-16-2026]

Foreign-Trade Zone (FTZ) 46, Notification of Proposed Production Activity; General Electric Company; (Production and Testing of Jet Engines); Peebles, Ohio

General Electric submitted a notification of proposed production activity to the FTZ Board (the Board) for its facility in Peebles, Ohio within FTZ 46. The notification conforming to the requirements of the Board's regulations (15 CFR 400.22) was received on February 3, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is gas turbine aircraft engines (duty rate of duty-free).

The proposed foreign-status materials/components include: synthetic polymer paint; synthetic polymer varnish; modified natural polymer paint; modified natural polymer varnish; lubricating oils; prepared glues; prepared adhesives; plastic tubing; plastic pipes; plastic hoses; plastic washers; plastic O-rings; plastic gaskets; plastic seals; plastic retainers; plastic blocks; plastic clamps; plastic bushings; plastic spacers; plastic straps; plastic strips; plastic sleeves; plastic covers; plastic grommets; plastic isolator; plastic damper; plastic connectors; rubber seals; rubber washers; rubber gaskets; rubber pipe fittings; rubber flange connectors; rubber grommets; rubber blocks; rigid containers; slag wool insulation; slag wool shield; carbon fiber bushing; carbon fiber clamps; carbon fiber gaskets; carbon fiber seals; carbon fiber spacers; carbon fiber vanes; carbon fibers blades; glass fiber insulation blankets; glass wool insulation blankets; stainless steel pipe fittings; stainless steel tube fittings; non-alloy steel pipe fittings; non-alloy steel tube fittings; steel stranded wire; non stainless alloy threaded fasteners; base metal threaded fasteners; carbon steel threaded fasteners; stainless steel threaded fasteners; iron nuts; steel nuts; steel flat washer; steel cotter ins; steel retaining rings; steel connectors for hoses; steel general purpose plugs; steel general purpose spacers; steel general purpose clamps; steel general purpose bushings; steel general purpose caps; steel general purpose sleeves; nickel alloy cold formed wire; nickel tube fittings; nickel pipe fittings; nickel stranded wire; nickel screws; nickel bolts; nickel conduit; nickel couplings; nickel pins; nickel enclosures; nickel seals; nickel washers; nickel fittings; nickel connectors; nickel gears; nickel lockwire; nickel lugs; nickel nuts; nickel joints; nickel rings; nickel rivets; nickel rotors; nickel spacers; nickel springs; nickel studs; nickel clips; nickel thermocouples; nickel inserts; nickel tubes; nickel vanes; titanium bolts; titanium screws; titanium pins; titanium seals; titanium spacers; titanium nuts; titanium washers; titanium connectors; base metal mounting fixtures; base metal brackets; base metal blind rivets; base metal tubular rivets; base metal bifurcated rivets; base metal identification plates; gas turbine aircraft engines; aircraft turbines; aircraft engine seal assemblies; base metal aircraft engine thermal blankets; aircraft engine retainer plates; aircraft engine fan stator assemblies; aircraft engine fan case assemblies; aircraft engine booster assemblies; aircraft engine hub assemblies; aircraft engine combustor diffuser nozzle assemblies; aircraft engine high pressure compressor rotor assemblies; aircraft engine high pressure nozzle assemblies; base metal aircraft engine blades; base metal aircraft engine disks; aircraft engine high pressure turbine rotor assemblies; base metal aircraft engine nozzles; aircraft engine turbine center frame assemblies; aircraft engine interstage seals; aircraft engine rear rotating seals; aircraft engine front rotating seals; aircraft engine heat shields; aircraft engine boroscope plugs; aircraft engine plugs; base metal aircraft engine blisks; aircraft engine weights; aircraft engine balances; aircraft engine shrouds; aircraft engine manifolds; aircraft engine retainer tube assemblies; aircraft engine rings; aircraft engine connector links; aircraft engine clevis; aircraft engine tube assemblies; aircraft engine ducts; aircraft engine cowl assemblies; aircraft engine fuel nozzles; aircraft engine spools; aircraft engine fairings; aircraft engine panels; aircraft engine air ducts; aircraft engine sectors; aircraft engine fan cowls; aircraft engine fan cowls; aircraft engine inlet assemblies; aircraft engine module assemblies; aircraft engine base assemblies; aircraft engine spool assemblies; aircraft engine vane assemblies; linear acting hydraulic cylinders; rotary power replacement pumps; heat exchangers; fuel filters; oil separators; fuel separators; engine fluid filters; machine work holders; data processing machines; magnetic hard disk drives; automatic data processing machines; regulator valves; bodies of valves; aircraft engine gears; multilayered metal gaskets; AC alternator generators; motor stator rings; generator stator rings; power supplies; engine igniters; engine exciters; switching machines; routing machines; electric amplifiers; video recording machines; solid state storage media; transmission machines; digital cameras; computer monitors; electrical terminals; electrical plugs; junction boxes; electric terminals; programmable controllers; flight recorders; flight sensors; flight recorders speed sensor; coaxial cables; wiring harnesses; electrical cables with fitting; electrical cables; shipping containers; transportation carriers; transportation carriers bracket; aircraft propellers; aircraft nacelles; aircraft thrust reversers; thermometers; flow meters; pressure meters; measuring meters; measuring multimeter; electrical measuring instrument; optical measuring instruments; testing equipment; vibration sensors; hydro-mechanical units; hydro-mechanical units sensors; masques; embroidered emblems; and engine cloth covers (duty rate ranges from duty-free to 20%).

The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign (PF) status (19 CFR 146.41). The Board's regulations (15 CFR 400.13(c)(2)) require that merchandise subject to AD/CVD orders, or items which would be otherwise subject to suspension of liquidation under AD/CVD procedures if they entered U.S. customs territory, be admitted to the zone in PF status (19 CFR 146.41).]

Public comment is invited from interested parties. Submissions shall be addressed to the Board's Executive Secretary and sent to: ftz@trade.gov. The closing period for their receipt is March 23, 2026.

A copy of the notification will be available for public inspection in the “Online FTZ Information System” section of the Board's website.

For further information, contact Brian Warnes at brian.warnes@trade.gov.

Dated: February 6, 2026.
Elizabeth Whiteman,
Executive Secretary.

[FR Doc. 2026-02775 Filed 2-10-26; 8:45 am]

BILLING CODE 3510-DS-P